DEPARTMENT OF ENERGY

Federal Energy Regulatory Commission

[Docket No. RP01-378-000]

Northwest Alaskan Pipeline Company; Notice of Termination of Tariff

April 20, 2001.

Take notice that on April 7, 2001, Northwest Alaskan Pipeline Company (Northwest Alaskan) tendered for filing a Notice of Termination of its entire FERC Gas Tariff, Original Volume No. 2.

Northwest Alaskan states that it has entered into agreements with its only jurisdictional customer, Pan-Alberta Gas (U.S.) Inc. (PAGUS), to terminate their gas purchase agreements, subject to receipt of all necessary regulatory approvals. Northwest Alaskan requests that the Notice of Termination become effective on the day after the day on which the parties close their transaction.

Northwest Alaskan states that the parties anticipate closing the transaction on or before May 15, 2001, and that Northwest Alaskan will notify the Commission when the closing has occurred. In the event that the proposed effective date falls less than 30 days after the date of the instant filing, Northwest Alaskan requests wavier of 18 CFR 154.602 to permit the Notice of Termination to become effective as proposed.

Northwest Alaskan states that it is serving copies of the instant application on its affected customers.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(ii) and the instructions on the Commissions' web site at http://www.ferc.fed.us/efi/doorbell.htm.

Linwood A. Watson, Jr.,
Acting Secretary.

[FR Doc. 01-10316 Filed 4-25-01; 8:45 am]

BILLING CODE 6717-01-M